DEPARTMENT OF THE INTERIOR

Office of the Secretary

Exxon Valdez Oil Spill Trustee Council; Invitation for Proposals

AGENCY: Office of the Secretary, Department of the Interior.

ACTION: Notice.

SUMMARY: The Exxon Valdez Oil Spill Trustee Council is asking the public, private organizations, and government agencies to submit proposals for implementation of the Gulf Ecosystem Monitoring and Research Program. The Invitation to Submit Restoration Proposals for Federal Fiscal Year 2003: Phase II is available on the Trustee Council Internet site.

DATES: Proposals are due September 4, 2002.

ADDRESSES: Exxon Valdez Oil Spill Trustee Council, 441 West 5th Avenue, Suite 500, Anchorage, Alaska 99501.

FOR FURTHER INFORMATION CONTACT: The Trustee Council Office, 907-278-8012 or toll free at 800-478-7745 (in Alaska) or 800-283-7745 (outside Alaska) or via Internet at www.oilspill.state.ak.us.

SUPPLEMENTARY INFORMATION: Following the Exxon Valdez oil spill in March 1989, a Trustee Council of three state and three federal trustees, including the Secretary of the Interior, was formed. The Trustee Council prepared a restoration plan for the injured resources and services within the oil spill area. The restoration plan called for annual work plans identifying projects to accomplish restoration. An extension of the Restoration Plan, the Gulf Ecosystem Monitoring and Research Program, also requires implementation through annual work plans. Each year proposals for restoration, monitoring, and research projects are solicited from a variety of organizations, including the public.

Dated: July 26, 2002.
Willie R. Taylor,
Director, Office of Environmental Policy and Compliance.

[FR Doc. 02-19791 Filed 8-5-02; 8:45 am]

BILLING CODE 4310-RG-P